DEPARTMENT OF THE INTERIOR

National Park Service

[NPS-WASO-NRNHL-DTS#-27103; PPWOCRADI0, PCU00RP14.R50000]

National Register of Historic Places; Notification of Pending Nominations and Related Actions

AGENCY: National Park Service, Interior.

ACTION: Notice.

SUMMARY: The National Park Service is soliciting comments on the significance of properties nominated before December 1, 2018, for listing or related actions in the National Register of Historic Places.

DATES: Comments should be submitted by January 2, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before December 1, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

NEW JERSEY

Burlington County

Ridgeway, William, House, 149 Juliustown Road, Springfield Township, SG100003304

NORTH CAROLINA

Cleveland County

Stamey Company Store, 4726 Fallston Rd., Fallston, SG100003294

Durham County

College Heights Historic District, Roughly bounded by Masondale & Formosa Aves., Fayetteville, Cecil & Nelson Sts., Durham, SG100003295

Haywood County

West Fork Pigeon River Pratt Truss Bridge, Spans W Fork of Pigeon R. between L. Logan Rd. & Heavenly Dr., .6 mi. S of US 276, Bethel vicinity, SG100003296

Henderson County

Meadows, The (Boundary Decrease), 31 Meadows Blake House Ln., Fletcher, BC100003297

Hertford County

Bethlehem Baptist Church, 1024 NC 561 E, Bethlehem vicinity, SG100003298

Lincoln County

Madison—Derr Iron Furnace, Address Restricted, Pumpkin Center vicinity, SG100003299

Rowan County

Cleveland School, (Rosenwald School Building Program in North Carolina MPS), 216 Krider St., Cleveland, MP100003300

SOUTH CAROLINA

Richland County

Cornell Arms, 1230 Pendleton St., Columbia, SG100003305

Union National Bank Building, 1200 Main St., Columbia, SG100003307

TEXAS

Potter County

Oliver—Eakle—Barfield Building, 600 S Polk St., Amarillo, SG100003302

VIRGINIA

Albemarle County

St. John School, (Rosenwald Schools in Virginia MPS), 1569 St. John Rd., Gordonsville vicinity, MP100003312

Campbell County

Campbell County Training School, (Rosenwald Schools in Virginia MPS), 1470 Village Hwy., Rustburg, MP100003311

Caroline County

Grace Episcopal Church, 4565 Fredericksburg Tpk., Corbin, SG100003313

Fauquier County

Deerfield, 9009 John S. Mosby Hwy., Upperville, SG100003309

King William County

Lanesville Christadelphian Church, 7442 Mount Olive Cohoke Rd., King William vicinity, SG100003314

Nelson County

Mill Hill, 524 Winery Rd., Roseland vicinity, SG100003310

WISCONSIN

Fond Du Lac County

Northern Casket Company Building, 16 N Brooke St., Fond du Lac, SG100003303

In the interest of preservation, a SHORTENED comment period has been requested for the following resource:

VIRGINIA

Richmond Independent city

Manchester Residential and Commercial Historic District (Boundary Increase), Along Semmes Ave., Cowardin St. & Jefferson Davis Hwy., Richmond (Independent City), BC100003308, Comment period: 3 days

A request for removal has been made for the following resource:

IOWA

Van Buren County

Midway Stock Farm Barn, (Louden Machinery Company, Fairfield Iowa MPS), 0.3 mi. S of jct. of IA 1 and IA16, Keosauqua vicinity, OT99000126

Additional documentation has been received for the following resources:

NORTH CAROLINA

Buncombe County

Asheville School, Roughly bounded by Patton Ave., Southern RR line, US 40, Sand Hill Rd., and Malvern Hills subdivision, Asheville, AD96000614

Sampson County

Clinton Commercial Historic District, Roughly bounded by Vance, Elizabeth, Wall, and Sampson Sts., Clinton, AD02000568

Authority: Section 60.13 of 36 CFR part 60

Dated: December 4, 2018.
Christopher Hetzel,
Acting Chief, National Register of Historic Places/National Historic Landmarks Program.

[FR Doc. 2018-27208 Filed 12-14-18; 8:45 am]

BILLING CODE 4312-52-P